DEPARTMENT OF THE TREASURY

Bureau of Engraving and Printing

Proposed Collection; Comment Request

AGENCY: Bureau of Engraving and Printing (BEP), Treasury.

ACTION: Notice and request for comments.

SUMMARY: The Department of the Treasury, and as part of its continuing effort to reduce paperwork and respondent burden, invites the general public and other Federal agencies to comment on an extension of an existing information collection, as required by the Paperwork Reduction Act of 1995, Public Law 104-13 (44 U.S.C. 3506(c)(2)(A)). The Bureau of Engraving and Printing (BEP) is soliciting comments concerning its Generic Clearance for Meaningful Access Information Collections (Conferences).

DATES: Written comments must be received on or before September 29, 2015 to be assured of consideration.

ADDRESSES: Comments regarding this information collection should be addressed to the Treasury PRA Clearance Officer, Department of the Treasury, Room 8140, 1750 Pennsylvania Avenue NW., Washington, DC 20220, or email at PRA@treasury.gov.

FOR FURTHER INFORMATION CONTACT: Requests for additional information or a copy of the information collection can be directed to the addresses provided above.

SUPPLEMENTARY INFORMATION:

OMB Number: 1520-0009.

Type of Review: Extension without change of currently approved collection.

Title: Generic Clearance for Meaningful Access Information Collections (Conferences).

Abstract: A court order was issued in American Council of the Blind v. Paulson, 591 F. Supp. 2d 1 (D.D.C. 2008) (“ACB v. Paulson”) requiring the Department of the Treasury and BEP to “provide meaningful access to United States currency for blind and other visually impaired persons, which steps shall be completed, in connection with each denomination of currency, not later than the date when a redesign of that denomination is next approved by the Secretary of the Treasury * * * .” In compliance with the court's order, BEP intends to meet individually with blind and visually impaired persons and request their feedback about tactile features that BEP is considering for possible incorporation into the next U.S. paper currency redesign. BEP employees will attend national conventions and conferences for disabled persons. At those gatherings, BEP employees will invite blind and visually impaired persons to provide feedback about certain tactile features being considered for inclusion in future United States currency paper designs.

Affected Public: Individuals or Households.

Estimated Number of Responses: 1,500.

Estimated Burden Hours: 501.

Request for Comments: Comments submitted in response to this notice will be summarized and included in the request for OMB approval. All comments will become a matter of public record. Comments are invited on: (a) Whether the collection of information is necessary for the proper performance of the functions of the agency, including whether the information has practical utility; (b) the accuracy of the agency's estimate of the burden of the collection of information, including the validity of the methodology and assumptions used; (c) ways to enhance the quality, utility, and clarity of the information to be collected; (d) ways to minimize the burden of the collection of information on respondents, including through the use of automated collection techniques or other forms of information technology, and (e) estimates of capital or start-up costs and costs of operation, maintenance, and purchase of services to provide information.

Dated: July 28, 2015.
Dawn D. Wolfgang,
Treasury PRA Clearance Officer.

[FR Doc. 2015-18820 Filed 7-30-15; 8:45 am]

BILLING CODE 4840-01-P